DEPARTMENT OF AGRICULTURE

Forest Service

Lake County Resource Advisory Committee

AGENCY: Forest Service, USDA.

ACTION: Notice of meeting.

SUMMARY: The Lake County Resource Advisory Committee (RAC) will hold a meeting.

DATES: The meeting will be held on October 27, 2005, from 3:30 p.m. to 5 p.m.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-2361: e-mail dmcintosh@fs.fed.us.

SUPPLEMENTARY INFORMATION: Agenda items to be covered include: (1) Roll Call/Establish Quorum; (2) Review Minutes From the June 23, 2005 Meeting; (3) Outcome of the Lake Co. Board of Supervisors Meeting; (4) Bob Lossius/Update on Middle Creek Weirs Project & Field Trip; (5) Project Review and Discission; (6) Recommend Projects/Vote; (7) Discuss Project Cost Accounting USFS/County of Lake; (8) Set Next Meeting Date; (9) Public Comment Period; Public input opportunity will be provided and individuals will have the opportunity to address the Committee at that time. (10) Adjourn.

Dated: October 5, 2005.
Blaine P. Baker,
Designated Federal Officer.

[FR Doc. 05-20988 Filed 10-19-05; 8:45am]

BILLING CODE 3410-11-M